DEPARTMENT OF HOUSING AND URBAN DEVELOPMENT

[Docket No. FR-4912-N-21]

Notice of Availability of a Draft Environmental Impact Statement for the Westpark Master Plan Redevelopment Project, City of Bremerton, WA

AGENCY: Office of the Assistant Secretary for Community Planning and Development, HUD.

ACTION: Notice.

SUMMARY: The Department of Housing and Urban Development (HUD) gives this notice to the public, agencies and Indian Tribes on the availability for public review and comment of the Draft Environmental Impact Statement for the redevelopment of the Westpark public housing community in Bremerton, WA. HUD gives this notice on behalf of the City of Bremerton acting as the Responsible Entity for compliance with the National Environmental Policy Act (NEPA) in accordance with 24 CFR 58.4, and jointly the Bremerton Housing Authority (BHA) acting as lead agency for compliance with the Washington State Environmental Policy Act (SEPA). This notice is given in accordance with the Council on Environmental Quality regulations at 40 CFR parts 1500-1508.

Notice is also given that the City of Bremerton as Responsible Entity has decided to combine the National Historic Preservation Act, Section 106 process with the NEPA Environmental Impact Statement (EIS) in accordance with 36 CFR 800.8(c). Comments are also being requested on the Section 106 information presented in the Draft EIS as well as on the Section 106 process itself.

DATES: Written comments on the Draft EIS must be received by April 20, 2007. Written comments should be addressed to the individual named below under the heading FOR FURTHER INFORMATION CONTACT.

Public Meeting: A public meeting will be held during the comment period in order to ensure public participation. The public meeting will be held on March 22, 2007, from 5:30 p.m. to 7:30 p.m. The public comment meeting will be held at the Westpark Community Center, 79 Russell Road, Bremerton, WA.

FOR FURTHER INFORMATION CONTACT: Andrea Spencer, City of Bremerton Department of Community Development, 345 6th Street, Suite 600, Bremerton, WA 98337-1873; telephone number (360) 473-5283; fax number (360) 473-5278; e-mail Andrea.Spencer@ci.bremerton.wa.us.

Copies of the DEIS are available at the above address. The DEIS is also available on the internet and can be viewed or downloaded at: http://ci.bremerton.wa.us.

SUPPLEMENTARY INFORMATION: The Westpark public housing development was originally constructed in the early 1940s to provide temporary homes for defense workers and their families during World War II. The 82-acre site is located in West Bremerton, and is bounded by Kitsap Way on the north, Oyster Bay Road on the east, and State Route 3 on the west. There are currently 631 public housing units on the site, a community center and other community facilities. The existing site is physically isolated and physically deteriorated, and in 2003 it was designated as “blighted” by the City of Bremerton for purposes of community renewal efforts pursuant to the state Community Renewal Law (Chapter 35.81 Revised Code of Washington).

The Westpark Redevelopment, sponsored by the Bremerton Housing Authority, would demolish all existing housing structures and infrastructure and redevelop the site as a mixed-use, mixed-income, pedestrian oriented, and a master planned community. It would contain approximately 759 housing units; 60,000 square feet of commercial uses in a 5-acre village center and in mixed-use buildings; and 28 acres of parks and open space. New housing would be for sale and for rent, single family and multi-family, and would incorporate low income, affordable and market rate units to meet a variety of housing needs. All existing public housing units will be replaced either on-site (190 units) or off-site (441), at locations in the City and Kitsap County; no net loss of low income housing units would occur. The project will require relocation of all existing residents. Alternatives to be considered in the EIS include No Action (involving no redevelopment) and a Design Alternative (with a larger retail area, the same number of housing units, and additional stormwater controls). Mitigation measures are identified in the DEIS.

Questions may be directed to the individual named above under the heading of FOR FURTHER INFORMATION CONTACT.

Dated: March 2, 2007.
Pamela H. Patenaude,
Assistant Secretary for Community Planning and Development.

[FR Doc. E7-4447 Filed 3-9-07; 8:45 am]

BILLING CODE 4210-67-P